DEPARTMENT OF TRANSPORTATION

Pipeline and Hazardous Materials Safety Administration

[Docket No. PHMSA-2022-0051; Notice No. 2022-08]

Hazardous Materials: Notification of Compliance Procedures and Proposed Termination of Certain Jet Perforating Guns Approvals

AGENCY: Pipeline and Hazardous Materials Safety Administration (PHMSA), Department of Transportation (DOT).

ACTION: Notice.

SUMMARY: PHMSA is issuing this notice to serve process and inform all persons who currently hold explosive approvals for certain jet perforating guns of the process necessary for maintaining, modifying, upgrading/up-classing, or terminating these approvals.

FOR FURTHER INFORMATION CONTACT: Ms. Harpreet Singh, Chief, Energetic Materials Branch, Sciences and Engineering Division, Office of Hazardous Materials Safety, (202) 366-4535, PHMSA, 1200 New Jersey Ave. SE, Washington, DC 20590.

SUPPLEMENTARY INFORMATION:

A. Background

In November 2020, PHMSA issued the HM-219C ¹ final rule, which amended the Hazardous Materials Regulations in response to 24 petitions for rulemaking submitted by the regulated community between February 2015 and March 2018. As part of one of those petitions, PHMSA incorporated by reference a new Jet Perforating Gun (JPG) standard developed by the Association of Energy Service Companies (AESC) and the Institute of Makers of Explosives (IME) titled “Guide to Obtaining DOT Approval of Jet Perforating Guns using AESC/IME Perforating Gun Specifications, Version 02, Effective Date: September 1, 2017” (AESC/IME JPG 2017 Standard).² The final rule had an effective date of December 28, 2020, and a delayed compliance date of November 26, 2021.

¹ 85 FR 75680 (November 25, 2020).

² See https://www.ime.org/uploads/public/PerfGunClassification(2017.09.01).pdf.

In the HM-219C rulemaking, PHMSA noted the major differences between the AESC/IME JPG 2017 standard and the previous 2008 standard, such as:

• The 1.4D (UN0494) JPG classifications have been removed.

• The 1.1D (UN0124) JPG classifications are issued with a note that the approved 1.1D perforating gun system can be transported as 1.4D in accordance with Special Provision (SP) 114 (49 CFR 172.102). This SP allows for JPGs classified as 1.1D explosives to be reclassified as 1.4D explosives for transportation if certain conditions are met.

• The 1.1D (NA0124) and 1.4D (NA0494) “with detonator” JPG classifications have been removed. Such JPG systems are now subject to testing in accordance with 49 CFR 173.56(b) prior to approval.

• The JPG Kodiak™ system has been added, but SP 114 does not apply to this JPG.

Since publication of the HM-219C final rule in November 2020, PHMSA has identified approximately 773 current explosive (EX) approvals that are assigned to one of the four identification numbers—UN0124, UN0494, NA0124, and NA0494—impacted by the AESC/IME JPG 2017 standard.

Today's notice is primarily intended to serve as a notice of proposed termination in accordance with 49 CFR 105.35(a)(3) and 107.713(b)(1) and (c), and to reach all EX approval holders who have not yet submitted a request to maintain, modify, upgrade/up-class, or terminate their current approval.

B. Processing Existing Approvals by UN/NA Number

PHMSA is providing the following options to current holders of an EX approval affected by this requirement. Affected EX approval-holders may take the appropriate actions as explained in the table below.

Table 1—Options To Comply With the AESC/IME JPG 2017 Standard
JPG classification | Adjustment | Comments and suggested action/options
1.1D (UN0124) except KodiakTM type JPG | None, unless a note authorizing 1.4D classification under SP 114 is desired (SP 114 applies whether noted on the EX letter or not) | 1. Submit request to modify EX approval to add note allowing the JPG to be shipped as 1.4D under SP 114. (49 CFR § 172.102). 2. Email modification request to explo@dot.gov or submit to the explosives portal https://portal.phmsa.dot.gov/PHMSAPortal2.
1.1D (UN0124) only KodiakTM type JPG | Modify the EX by requesting the note be added that SP 114 does not apply to a Kodiak JPG | 1. Submit a request to modify an EX approval to add note not permitting 1.4D under SP 114. (49 CFR § 172.102) for the Kodiak version of the JPG. 2. Email modification request to explo@dot.gov or submit to the explosives portal https://portal.phmsa.dot.gov/PHMSAPortal2.
1.4D (UN0494) (holder also has 1.1D (UN0124) approval for the same JPG) | Surrender EX and request termination, or PHMSA will terminate | 1. No longer needed since 1.1D can be shipped as 1.4D under SP 114. 2. Email termination request to explo@dot.gov or submit to the explosives portal https://portal.phmsa.dot.gov/PHMSAPortal2.
1.4D (UN0494) (holder does not have 1.1D classification (UN0124) approval for the same JPG) | Modify EX by requesting upgrade/up-class to 1.1D (UN0124), or PHMSA will terminate | 1. No longer needed since 1.1D can be shipped as 1.4D under Special Provision 114. (49 CFR 172.102). 2. Email modification request to explo@dot.gov or submit to the explosives portal https://portal.phmsa.dot.gov/PHMSAPortal2.
1.1D with detonator (NA0124) (holder does not have an explosives lab report in accordance with 49 CFR 173.56(b)) | Surrender EX and request termination or PHMSA will terminate or request to upgrade/up-class to UN0124 | 1. NA0124 is no longer authorized without an explosives lab report in accordance with 173.56(b). 2. Email termination or upgrade/up-class request to explo@dot.gov or submit to the explosives portal https://portal.phmsa.dot.gov/PHMSAPortal2.
1.1D with detonator (NA0124) (holder has an explosives lab report in accordance with 49 CFR 173.56(b)) and has not shared the lab report with PHMSA | Modification request to retain the 1.1D (NA0124) classification, or PHMSA will terminate | 1. Submit modification request and an explosives lab report to PHMSA. 2. Email modification request to explo@dot.gov or submit to the explosives portal https://portal.phmsa.dot.gov/PHMSAPortal2.
1.4D with detonator (NA0494) (holder does not have an explosives lab report in accordance with 49 CFR 173.56(b)) | Surrender EX and request termination or PHMSA will terminate or request to upgrade/up-class to UN0124 | 1. NA0494 is no longer authorized without an explosives lab report in accordance with 173.56(b). 2. Email termination or upgrade/up-class request to explo@dot.gov or submit to the explosives portal https://portal.phmsa.dot.gov/PHMSAPortal2.
1.4D with detonator (NA0494) (holder has an explosives lab report in accordance with 49 CFR 173.56(b)) and has not shared the lab report with PHMSA | Modification request to retain the 1.4D (NA0494) classification, or PHMSA will terminate | 1. Submit modification request and an explosives lab report to PHMSA. 2. Email modification request to explo@dot.gov or submit to the explosives portal https://portal.phmsa.dot.gov/PHMSAPortal2.

The approximately 773 EX approvals are held by over 100 separate companies. Because of the AESC/IME JPG 2017 Standard, existing approvals for the four affected UN/NA ID numbers—UN0124, UN0494, NA0124, and NA0494—must be modified in accordance with 49 CFR 107.713(a)(1) to reflect whether EX approval holders have met the requirements of the standard. UN0124 non-Kodiak™ approvals do not require modification as SP 114 applies to them even if it is not specifically listed in the notes section of the approval (49 CFR 172.102). UN0124 Kodiak™ approvals do require a modification of the approval adding the note that SP 114 does not apply to the Kodiak™ JPG system.

EX approval holders have until September 12, 2022, to provide a written response to PHMSA either to request that PHMSA maintain, modify, upgrade/upclass, or terminate their approval(s) or to otherwise show cause as to why their approval(s) should not be terminated, in accordance with 49 CFR 107.713(c)(1). Approvals for which PHMSA does not receive a request by September 12, 2022, are subject to the following:

Table 2—Proposed Termination Action
JPG classification | PHMSA action | Basis/comments
UN0124, 1.1D—non-Kodiak JPG system | None | SP 114 applies whether noted on the EX letter or not.
UN0124, 1.1D Kodiak JPG system | PHMSA will revise and add a note that SP 114 does not apply to the Kodiak system | Add a note stating that SP 114 does not apply.
UN0494, 1.4D, for which the holder has an approval for the same JPG device as UN0124, 1.1D | Termination in accordance with this Federal Register notice | Approval not needed in accordance with SP 114 as it applies.
UN0494, 1.4D for which the holder does not have an approval for the same JPG device as UN0124, 1.1D | Termination in accordance with this Federal Register notice | Holder failed to request an up-class to UN0124, 1.1D as required by this notice.
UN0494, 1.4D for which the holder has an explosives lab report recommending UN0494 and the lab report is on file with PHMSA | None | Holder submitted the explosives lab report required by 49 CFR 173.67 in accordance 173.56(b) and received an explosives classification approval.
NA0124, 1.1D JPG with detonator for which the holder does not have an explosives lab report recommending NA0124 | Termination in accordance with this Federal Register notice | Holder failed to submit an explosives lab report required by 49 CFR 173.67 in accordance 173.56(b).
NA0124, 1.1D JPG with detonator for which the holder has an explosives lab report recommending NA0124 but has not submitted the lab report to PHMSA | Termination in accordance with this Federal Register notice | Holder failed to submit the explosives lab report required by 49 CFR 173.67 in accordance with 173.56(b).
NA0494, 1.4D JPG with detonator for which the holder does not have an explosives lab report recommending NA0494 | Termination in accordance with this Federal Register notice | Holder failed to submit the explosives lab report required by 49 CFR 173.67 in accordance with 173.56(b).
NA0494, 1.4D JPG with detonator for which the holder has an explosives lab report recommending NA0494 but has not submitted the lab report to PHMSA | Termination in accordance with this Federal Register notice | Holder failed to submit the explosives lab report required by 49 CFR 173.67 in accordance with 173.56(b).

Requests may be submitted to PHMSA via email at explo@dot.gov or the PHMSA EX Portal at https://portal.phmsa.dot.gov/PHMSAPortal2.

The names of EX approval holders who have not yet submitted a request to maintain, modify, upgrade/up-class, or terminate their current approval(s) are provided in Table 3. This table accurately reflects the population of holders as of July 1, 2022.

Table 3—Approval Holders
EX No. | Company | UN/NA No.
EX2012090377 | Accurate Logging & Perforating, Inc | UN0494
EX2012090378 | Accurate Logging & Perforating, Inc | UN0494
EX2012090379 | Accurate Logging & Perforating, Inc | UN0494
EX2012090380 | Accurate Logging & Perforating, Inc | UN0494
EX2012090381 | Accurate Logging & Perforating, Inc | UN0494
EX2012090382 | Accurate Logging & Perforating, Inc | UN0494
EX2012090391 | Accurate Logging & Perforating, Inc | NA0494
EX2012090392 | Accurate Logging & Perforating, Inc | NA0494
EX2012090393 | Accurate Logging & Perforating, Inc | NA0494
EX1996110208 | Allegheny Wireline Service c/o Owen Compliance Ser | NA0124
EX1996110209 | Allegheny Wireline Service c/o Owen Compliance Ser | NA0494
EX2011110994 | Allied Wireline Services | NA0494
EX2011110995 | Allied Wireline Services | UN0494
EX2011110996 | Allied Wireline Services | NA0494
EX2011110997 | Allied Wireline Services | UN0124
EX2011111036 | Allied Wireline Services | UN0494
EX2011111037 | Allied Wireline Services | NA0494
EX2011111038 | Allied Wireline Services | UN0494
EX2011111039 | Allied Wireline Services | NA0494
EX2011111040 | Allied Wireline Services | UN0494
EX2015090686 | Anderson Perforating Service, LLC | UN0494
EX2015090687 | Anderson Perforating Service, LLC | UN0494
EX2015090688 | Anderson Perforating Service, LLC | UN0494
EX2015090689 | Anderson Perforating Service, LLC | UN0494
EX2015090690 | Anderson Perforating Service, LLC | UN0494
EX2015090691 | Anderson Perforating Service, LLC | UN0494
EX2015090692 | Anderson Perforating Service, LLC | UN0494
EX2010071138 | ANLINE, Inc | UN0494
EX2010071139 | ANLINE, Inc | UN0494
EX2010071140 | ANLINE, Inc | UN0494
EX2009080176 | Apollo Perforators Inc | NA0494
EX2009080177 | Apollo Perforators Inc | UN0494
EX2009080178 | Apollo Perforators Inc | NA0494
EX2017040169 | AR Wireline LLC | UN0494
EX2017040170 | AR Wireline LLC | UN0494
EX2017040171 | AR Wireline LLC | UN0494
EX2017040172 | AR Wireline LLC | UN0494
EX2017040173 | AR Wireline LLC | UN0494
EX2017040174 | AR Wireline LLC | UN0494
EX2010100093 | Ark-La-Tex Wireline Services | UN0494
EX2010100094 | Ark-La-Tex Wireline Services | UN0494
EX2010100095 | Ark-La-Tex Wireline Services | UN0494
EX2010100099 | Ark-La-Tex Wireline Services | UN0494
EX2009030177 | Austin Explosives Company | NA0494
EX2009035458 | Austin Explosives Company | UN0124
EX2009035459 | Austin Explosives Company | UN0494
EX2009035464 | Austin Explosives Company | UN0124
EX2009035465 | Austin Explosives Company | UN0494
EX2009035466 | Austin Explosives Company | UN0494
EX2009035468 | Austin Explosives Company | UN0494
EX2009035469 | Austin Explosives Company | NA0124
EX2009035473 | Austin Explosives Company | NA0124
EX2009035474 | Austin Explosives Company | NA0494
EX2009035476 | Austin Explosives Company | NA0494
EX2009035477 | Austin Explosives Company | NA0124
EX2009035478 | Austin Explosives Company | NA0494
EX2009035479 | Austin Explosives Company | NA0124
EX2009035542 | Austin Explosives Company | UN0494
EX2009035543 | Austin Explosives Company | UN0124
EX2009035544 | Austin Explosives Company | UN0494
EX2009035546 | Austin Explosives Company | UN0494
EX2009035547 | Austin Explosives Company | UN0124
EX2009035548 | Austin Explosives Company | UN0494
EX2009035549 | Austin Explosives Company | UN0124
EX2009035550 | Austin Explosives Company | UN0494
EX2009035557 | Austin Explosives Company | NA0124
EX2009035558 | Austin Explosives Company | NA0494
EX2009035559 | Austin Explosives Company | NA0124
EX2009035560 | Austin Explosives Company | NA0494
EX2009035561 | Austin Explosives Company | NA0124
EX2009035562 | Austin Explosives Company | NA0494
EX2009035563 | Austin Explosives Company | NA0124
EX2009035564 | Austin Explosives Company | NA0494
EX2009060085 | Austin Explosives Company | NA0494
EX2009060330 | Austin Explosives Company | UN0124
EX2009060334 | Austin Explosives Company | UN0124
EX2009060335 | Austin Explosives Company | UN0494
EX2009060336 | Austin Explosives Company | UN0124
EX2009060337 | Austin Explosives Company | UN0494
EX2009060338 | Austin Explosives Company | UN0124
EX2009060339 | Austin Explosives Company | UN0494
EX2009060340 | Austin Explosives Company | NA0124
EX2009060341 | Austin Explosives Company | NA0494
EX2009060342 | Austin Explosives Company | NA0124
EX2009060343 | Austin Explosives Company | NA0494
EX2009060344 | Austin Explosives Company | NA0124
EX2009060345 | Austin Explosives Company | NA0494
EX2009060346 | Austin Explosives Company | NA0124
EX2009060347 | Austin Explosives Company | NA0494
EX2010030285 | Austin Explosives Company | UN0124
EX2013080350 | AXIS American X-Ray & Inspection Services, Inc | UN0494
EX2013080352 | AXIS American X-Ray & Inspection Services, Inc | UN0494
EX2013080353 | AXIS American X-Ray & Inspection Services, Inc | UN0494
EX1993090157 | Baker Hughes INTEQ (Owen Compliance Services, Inc) | UN0124
EX2009060302 | Blohowiak Wireline Co., Inc | NA0494
EX2009060303 | Blohowiak Wireline Co., Inc | NA0494
EX2009060304 | Blohowiak Wireline Co., Inc | NA0494
EX2009060308 | Blohowiak Wireline Co., Inc | UN0494
EX2009060309 | Blohowiak Wireline Co., Inc | UN0494
EX2009060310 | Blohowiak Wireline Co., Inc | UN0494
EX2009060311 | Blohowiak Wireline Co., Inc | UN0494
EX2009060312 | Blohowiak Wireline Co., Inc | UN0494
EX2013110494 | Blue Jet Inc | NA0494
EX2013110496 | Blue Jet Inc | UN0494
EX2013110497 | Blue Jet Inc | NA0494
EX2013110498 | Blue Jet Inc | UN0124
EX2013110499 | Blue Jet Inc | NA0494
EX2013110500 | Blue Jet Inc | UN0124
EX2013120526 | Blue Jet Inc | UN0494
EX2013120527 | Blue Jet Inc | UN0494
EX2016100206 | Boots Smith Completion Services, LLC | UN0494
EX2016100214 | Boots Smith Completion Services, LLC | UN0494
EX2016100215 | Boots Smith Completion Services, LLC | UN0494
EX2011040402 | Cajun Wireline | UN0124
EX2011040405 | Cajun Wireline | UN0124
EX2011040409 | Cajun Wireline | UN0124
EX2011040415 | Cajun Wireline | UN0124
EX2011040424 | Cajun Wireline | NA0124
EX2011040426 | Cajun Wireline | UN0124
EX2011040655 | Cajun Wireline | NA0494
EX2011040656 | Cajun Wireline | NA0494
EX2011040665 | Cajun Wireline | NA0494
EX2014060069 | Cajun Wireline | UN0494
EX2014090976 | Cajun Wireline | UN0494
EX2012111533 | Capitan Corporation | UN0494
EX2012111536 | Capitan Corporation | UN0494
EX2012111537 | Capitan Corporation | UN0494
EX2016100355 | Capitan Corporation | NA0494
EX2016100357 | Capitan Corporation | NA0124
EX2014060695 | Cased Hole Well Services, LLC | UN0124
EX2014060698 | Cased Hole Well Services, LLC | UN0494
EX2014060699 | Cased Hole Well Services, LLC | UN0494
EX2014060700 | Cased Hole Well Services, LLC | UN0494
EX2014060701 | Cased Hole Well Services, LLC | UN0494
EX2014060702 | Cased Hole Well Services, LLC | UN0494
EX2014060703 | Cased Hole Well Services, LLC | UN0494
EX2014060704 | Cased Hole Well Services, LLC | UN0494
EX2016090936 | CEEE LLC dba Integrity Wireline LLC | UN0494
EX2016090937 | CEEE LLC dba Integrity Wireline LLC | UN0494
EX2016090938 | CEEE LLC dba Integrity Wireline LLC | UN0494
EX2015121645 | Clutch Energy Services, LLC | UN0124
EX2015121646 | Clutch Energy Services, LLC | UN0494
EX2015121647 | Clutch Energy Services, LLC | NA0124
EX2015121648 | Clutch Energy Services, LLC | NA0494
EX2015121649 | Clutch Energy Services, LLC | UN0124
EX2015121650 | Clutch Energy Services, LLC | UN0494
EX2015121651 | Clutch Energy Services, LLC | NA0124
EX2015121652 | Clutch Energy Services, LLC | NA0494
EX2011040360 | Cogco Inc | NA0124
EX2009050187 | Cutters Wireline Service, Inc | NA0494
EX2009050188 | Cutters Wireline Service, Inc | NA0124
EX2009050191 | Cutters Wireline Service, Inc | NA0494
EX2009050192 | Cutters Wireline Service, Inc | NA0124
EX2009050195 | Cutters Wireline Service, Inc | NA0494
EX2009050196 | Cutters Wireline Service, Inc | NA0124
EX2009050196 | Cutters Wireline Service, Inc | NA0494
EX2009050199 | Cutters Wireline Service, Inc | NA0494
EX2009050203 | Cutters Wireline Service, Inc | NA0494
EX2009050204 | Cutters Wireline Service, Inc | NA0124
EX2009050207 | Cutters Wireline Service, Inc | NA0494
EX2009050208 | Cutters Wireline Service, Inc | NA0124
EX2011040357 | D & S Wireline | UN0494
EX2011040365 | D & S Wireline | NA0494
EX2011040371 | D & S Wireline | UN0494
EX2011040398 | D & S Wireline | UN0494
EX2011040399 | D & S Wireline | UN0494
EX2011040400 | D & S Wireline | NA0494
EX2011040401 | D & S Wireline | UN0494
EX2011040403 | D & S Wireline | UN0494
EX2011040406 | D & S Wireline | NA0494
EX2011040411 | D & S Wireline | NA0494
EX2011040414 | D & S Wireline | UN0494
EX2011040416 | D & S Wireline | NA0494
EX2011040417 | D & S Wireline | NA0494
EX2012100821 | Dialog Wireline Services, LLC | UN0124
EX2009100047 | E&P Wireline Services, LLC | UN0494
EX2009100049 | E&P Wireline Services, LLC | UN0494
EX2015010747 | Epic Wireline Services, Inc | UN0494
EX2015010748 | Epic Wireline Services, Inc | UN0124
EX2015010749 | Epic Wireline Services, Inc | UN0494
EX2015010750 | Epic Wireline Services, Inc | UN0124
EX2015010751 | Epic Wireline Services, Inc | NA0124
EX2015010752 | Epic Wireline Services, Inc | NA0494
EX2015010753 | Epic Wireline Services, Inc | NA0494
EX2015010754 | Epic Wireline Services, Inc | NA0124
EX2015010755 | Epic Wireline Services, Inc | UN0494
EX2015010756 | Epic Wireline Services, Inc | UN0124
EX2012030723 | Express Energy Services | UN0494
EX2012030724 | Express Energy Services | UN0494
EX2012030725 | Express Energy Services | UN0494
EX2012030726 | Express Energy Services | UN0494
EX2012030727 | Express Energy Services | UN0494
EX2012030728 | Express Energy Services | UN0494
EX2014110180 | Extreme Wireline Inc | NA0494
EX2014110182 | Extreme Wireline Inc | NA0494
EX2014100455 | FMC Technologies Surface Integrated Services, Inc | UN0494
EX2014100463 | FMC Technologies Surface Integrated Services, Inc | NA0494
EX2014100467 | FMC Technologies Surface Integrated Services, Inc | UN0494
EX2014100469 | FMC Technologies Surface Integrated Services, Inc | NA0494
EX2012100799 | Frontier Completion Services, LLC | UN0124
EX2012100800 | Frontier Completion Services, LLC | NA0494
EX2012100801 | Frontier Completion Services, LLC | UN0124
EX2012100802 | Frontier Completion Services, LLC | NA0494
EX2012100803 | Frontier Completion Services, LLC | UN0124
EX2012100804 | Frontier Completion Services, LLC | NA0494
EX2012100805 | Frontier Completion Services, LLC | UN0124
EX2012100806 | Frontier Completion Services, LLC | NA0494
EX2012100807 | Frontier Completion Services, LLC | UN0124
EX2012100808 | Frontier Completion Services, LLC | NA0494
EX2012100809 | Frontier Completion Services, LLC | UN0124
EX2012100810 | Frontier Completion Services, LLC | NA0494
EX2012100811 | Frontier Completion Services, LLC | UN0124
EX2016091098 | FTS International Services LLC | UN0124
EX2015030446 | FTS International Services, LLC | UN0494
EX2015030448 | FTS International Services, LLC | UN0124
EX2015030450 | FTS International Services, LLC | UN0494
EX2015030451 | FTS International Services, LLC | UN0124
EX2015030452 | FTS International Services, LLC | NA0494
EX2015030453 | FTS International Services, LLC | UN0494
EX2015030454 | FTS International Services, LLC | UN0494
EX2015030455 | FTS International Services, LLC | UN0494
EX2015030456 | FTS International Services, LLC | UN0494
EX2015030457 | FTS International Services, LLC | NA0494
EX2015030458 | FTS International Services, LLC | NA0494
EX2015030459 | FTS International Services, LLC | UN0494
EX2013011200 | GE Oil & Gas Logging Services, Inc | UN0124
EX2013011201 | GE Oil & Gas Logging Services, Inc | UN0494
EX2013011202 | GE Oil & Gas Logging Services, Inc | UN0494
EX2013011203 | GE Oil & Gas Logging Services, Inc | UN0494
EX2013011204 | GE Oil & Gas Logging Services, Inc | UN0494
EX2013011205 | GE Oil & Gas Logging Services, Inc | UN0494
EX2013011206 | GE Oil & Gas Logging Services, Inc | UN0494
EX2013011207 | GE Oil & Gas Logging Services, Inc | UN0124
EX2013011208 | GE Oil & Gas Logging Services, Inc | UN0124
EX2013011209 | GE Oil & Gas Logging Services, Inc | UN0124
EX2013011210 | GE Oil & Gas Logging Services, Inc | UN0124
EX2013011212 | GE Oil & Gas Logging Services, Inc | UN0124
EX2013011214 | GE Oil & Gas Logging Services, Inc | NA0494
EX2013011215 | GE Oil & Gas Logging Services, Inc | NA0494
EX2013011216 | GE Oil & Gas Logging Services, Inc | NA0494
EX2013011217 | GE Oil & Gas Logging Services, Inc | NA0124
EX2013011218 | GE Oil & Gas Logging Services, Inc | NA0124
EX2013011219 | GE Oil & Gas Logging Services, Inc | NA0124
EX2013011220 | GE Oil & Gas Logging Services, Inc | UN0494
EX2013020491 | GE Oil & Gas Logging Services, Inc | UN0124
EX2015100254 | GEODynamics, Inc | NA0124
EX2015100270 | GEODynamics, Inc | NA0124
EX2015100745 | GEODynamics, Inc | NA0124
EX2015050129 | GR Wireline LP | UN0494
EX2015050130 | GR Wireline LP | NA0494
EX2015050131 | GR Wireline LP | UN0124
EX2015050132 | GR Wireline LP | UN0494
EX2015050133 | GR Wireline LP | NA0494
EX2015050134 | GR Wireline LP | NA0124
EX2015050135 | GR Wireline LP | UN0494
EX2016030436 | Halliburton Energy Services, Inc | UN0124
EX2009010158 | Halliburton Energy Services, Inc | UN0124
EX2009010162 | Halliburton Energy Services, Inc | UN0124
EX2009010163 | Halliburton Energy Services, Inc | UN0124
EX2009010164 | Halliburton Energy Services, Inc | UN0124
EX2009010166 | Halliburton Energy Services, Inc | UN0124
EX2009010193 | Halliburton Energy Services, Inc | UN0124
EX2009010195 | Halliburton Energy Services, Inc | UN0124
EX2009035019 | Hearne Wireline Service | UN0494
EX2015110600 | High Plains, Inc | UN0494
EX2015110602 | High Plains, Inc | UN0494
EX2015110604 | High Plains, Inc | UN0494
EX2015111360 | High Plains, Inc | UN0494
EX1996110212 | Hitwell Surveys, Inc. c/o Owen Compliance Services | NA0124
EX1996110213 | Hitwell Surveys, Inc. c/o Owen Compliance Services | NA0494
EX2015070493 | Hunter Wireline Services, LLC | UN0494
EX2015070495 | Hunter Wireline Services, LLC | UN0494
EX2015070498 | Hunter Wireline Services, LLC | NA0494
EX2015070499 | Hunter Wireline Services, LLC | NA0494
EX2015070500 | Hunter Wireline Services, LLC | NA0494
EX2015070501 | Hunter Wireline Services, LLC | UN0494
EX2015070503 | Hunter Wireline Services, LLC | UN0494
EX2015070505 | Hunter Wireline Services, LLC | NA0494
EX2015070512 | Hunter Wireline Services, LLC | NA0494
EX2015070514 | Hunter Wireline Services, LLC | UN0494
EX2015070520 | Hunter Wireline Services, LLC | UN0494
EX2015070521 | Hunter Wireline Services, LLC | NA0494
EX2015070522 | Hunter Wireline Services, LLC | UN0494
EX2009040043 | Integrated Production Services, Inc | UN0494
EX2009040044 | Integrated Production Services, Inc | NA0124
EX2009040045 | Integrated Production Services, Inc | UN0494
EX2009040047 | Integrated Production Services, Inc | NA0494
EX2009040086 | Integrated Production Services, Inc | UN0124
EX2009040087 | Integrated Production Services, Inc | UN0494
EX2009040089 | Integrated Production Services, Inc | UN0494
EX2009040091 | Integrated Production Services, Inc | NA0124
EX2009040092 | Integrated Production Services, Inc | UN0494
EX2009040093 | Integrated Production Services, Inc | NA0124
EX2009040094 | Integrated Production Services, Inc | UN0124
EX2009040095 | Integrated Production Services, Inc | NA0494
EX2009040096 | Integrated Production Services, Inc | UN0494
EX2009040097 | Integrated Production Services, Inc | NA0124
EX2009040098 | Integrated Production Services, Inc | NA0494
EX2009040099 | Integrated Production Services, Inc | UN0494
EX2009040100 | Integrated Production Services, Inc | UN0124
EX2009040101 | Integrated Production Services, Inc | NA0494
EX2009040102 | Integrated Production Services, Inc | UN0124
EX2009040103 | Integrated Production Services, Inc | NA0494
EX2010071124 | J-W Wireline Company | NA0494
EX2010071125 | J-W Wireline Company | NA0494
EX2010071126 | J-W Wireline Company | NA0494
EX2010071127 | J-W Wireline Company | UN0494
EX2010071128 | J-W Wireline Company | UN0494
EX2010071129 | J-W Wireline Company | UN0494
EX2010071130 | J-W Wireline Company | UN0494
EX2010071131 | J-W Wireline Company | UN0494
EX2010071132 | J-W Wireline Company | UN0494
EX2010071133 | J-W Wireline Company | UN0494
EX2009050655 | K & N Perforators, Inc | UN0494
EX2010050454 | K & N Perforators, Inc | NA0494
EX2010050455 | K & N Perforators, Inc | NA0494
EX2010050456 | K & N Perforators, Inc | NA0494
EX2010050457 | K & N Perforators, Inc | NA0494
EX2010050458 | K & N Perforators, Inc | NA0494
EX2010050459 | K & N Perforators, Inc | NA0494
EX2010050460 | K & N Perforators, Inc | UN0494
EX2014080601 | Keane Frac ND, LLC | UN0124
EX2014080602 | Keane Frac ND, LLC | NA0124
EX2014080603 | Keane Frac ND, LLC | UN0494
EX2014080605 | Keane Frac ND, LLC | NA0494
EX2014090516 | Keane Frac ND, LLC | NA0124
EX2014080593 | Keane Frac TX, LLC | UN0124
EX2014080596 | Keane Frac TX, LLC | NA0124
EX2014080598 | Keane Frac TX, LLC | UN0494
EX2014080599 | Keane Frac TX, LLC | NA0494
EX2013110799 | Keane Frac, LP | UN0494
EX2013110800 | Keane Frac, LP | NA0124
EX2013110802 | Keane Frac, LP | NA0494
EX2009035502 | Key Electric Wireline Services, LLC | UN0124
EX2009035503 | Key Electric Wireline Services, LLC | UN0124
EX2009035504 | Key Electric Wireline Services, LLC | UN0124
EX2009035505 | Key Electric Wireline Services, LLC | UN0124
EX2009035506 | Key Electric Wireline Services, LLC | UN0494
EX2009035507 | Key Electric Wireline Services, LLC | UN0494
EX2009035508 | Key Electric Wireline Services, LLC | UN0124
EX2009035509 | Key Electric Wireline Services, LLC | UN0494
EX2009035510 | Key Electric Wireline Services, LLC | UN0124
EX2009035511 | Key Electric Wireline Services, LLC | UN0124
EX2009035512 | Key Electric Wireline Services, LLC | UN0494
EX2009035513 | Key Electric Wireline Services, LLC | UN0124
EX2009035514 | Key Electric Wireline Services, LLC | UN0494
EX2009035515 | Key Electric Wireline Services, LLC | UN0494
EX2009035516 | Key Electric Wireline Services, LLC | UN0494
EX2009035517 | Key Electric Wireline Services, LLC | UN0494
EX2009035518 | Key Electric Wireline Services, LLC | UN0124
EX2009035519 | Key Electric Wireline Services, LLC | UN0494
EX2009035520 | Key Electric Wireline Services, LLC | UN0124
EX2009035521 | Key Electric Wireline Services, LLC | UN0494
EX2009035522 | Key Electric Wireline Services, LLC | UN0124
EX2009035523 | Key Electric Wireline Services, LLC | UN0494
EX2009035524 | Key Electric Wireline Services, LLC | UN0494
EX2009035525 | Key Electric Wireline Services, LLC | UN0124
EX2009050253 | Lone Wolf Wireline, Inc | NA0124
EX2009050254 | Lone Wolf Wireline, Inc | UN0494
EX2009050255 | Lone Wolf Wireline, Inc | UN0124
EX2009050256 | Lone Wolf Wireline, Inc | NA0494
EX2009050257 | Lone Wolf Wireline, Inc | NA0124
EX2009050258 | Lone Wolf Wireline, Inc | UN0494
EX2009050259 | Lone Wolf Wireline, Inc | UN0124
EX2009050260 | Lone Wolf Wireline, Inc | NA0494
EX2009050261 | Lone Wolf Wireline, Inc | NA0124
EX2009050264 | Lone Wolf Wireline, Inc | NA0494
EX2009050275 | Lone Wolf Wireline, Inc | NA0494
EX2014120034 | Magna Energy Services, LLC | UN0494
EX2014120035 | Magna Energy Services, LLC | UN0494
EX2009050133 | Mesa Wireline, LLC | UN0494
EX2009050134 | Mesa Wireline, LLC | UN0124
EX2009050153 | Mesa Wireline, LLC | UN0494
EX2009050156 | Mesa Wireline, LLC | NA0124
EX2009050157 | Mesa Wireline, LLC | UN0494
EX2009050158 | Mesa Wireline, LLC | UN0124
EX2013050446 | Moncla E-line Services, Inc | UN0494
EX2013050447 | Moncla E-line Services, Inc | NA0494
EX2013050448 | Moncla E-line Services, Inc | NA0494
EX2013050449 | Moncla E-line Services, Inc | NA0494
EX2013050450 | Moncla E-line Services, Inc | NA0494
EX2013050451 | Moncla E-line Services, Inc | NA0494
EX2013050452 | Moncla E-line Services, Inc | NA0494
EX2013050476 | Moncla E-line Services, Inc | UN0494
EX2013050477 | Moncla E-line Services, Inc | UN0494
EX2013050479 | Moncla E-line Services, Inc | UN0494
EX2013050480 | Moncla E-line Services, Inc | UN0494
EX2013050481 | Moncla E-line Services, Inc | UN0494
EX2013050482 | Moncla E-line Services, Inc | UN0494
EX2009050029 | Nabors Completion & Production Services Co | NA0124
EX2009050038 | Nabors Completion & Production Services Co | UN0494
EX2009050040 | Nabors Completion & Production Services Co | NA0494
EX2009050041 | Nabors Completion & Production Services Co | NA0124
EX2009050042 | Nabors Completion & Production Services Co | UN0494
EX2009050043 | Nabors Completion & Production Services Co | UN0124
EX2009050044 | Nabors Completion & Production Services Co | NA0494
EX2009050045 | Nabors Completion & Production Services Co | NA0124
EX2009050046 | Nabors Completion & Production Services Co | UN0494
EX2009050047 | Nabors Completion & Production Services Co | UN0124
EX2009050050 | Nabors Completion & Production Services Co | UN0494
EX2009050051 | Nabors Completion & Production Services Co | UN0124
EX2009050052 | Nabors Completion & Production Services Co | UN0494
EX2009050053 | Nabors Completion & Production Services Co | UN0124
EX2009050054 | Nabors Completion & Production Services Co | NA0494
EX2015010280 | Nitro Downhole LLC | UN0494
EX2018122399 | Norman Wireline Service, Inc | UN0494
EX1996110217 | Owen Oil Tools, Inc c/o Owen Compliance Services | NA0494
EX2015070752 | Patriot Well Solutions | NA0494
EX2015070753 | Patriot Well Solutions | UN0494
EX2015070754 | Patriot Well Solutions | UN0124
EX2015070755 | Patriot Well Solutions | UN0494
EX2015070756 | Patriot Well Solutions | NA0494
EX2015070757 | Patriot Well Solutions | UN0494
EX2014110383 | Peak Wireline Services Inc | UN0494
EX2015010339 | Peak Wireline Services Inc | UN0494
EX2015010340 | Peak Wireline Services Inc | UN0494
EX2015010341 | Peak Wireline Services Inc | UN0494
EX2009050128 | Perf-O-Log, Inc | UN0494
EX2009050129 | Perf-O-Log, Inc | UN0494
EX2015010001 | PerfX Wireline Services LLC | UN0494
EX2012120815 | Petroleum Perforators, Inc | UN0494
EX2012120816 | Petroleum Perforators, Inc | NA0494
EX2012120817 | Petroleum Perforators, Inc | UN0494
EX2012120820 | Petroleum Perforators, Inc | NA0494
EX2012120822 | Petroleum Perforators, Inc | UN0494
EX2012120823 | Petroleum Perforators, Inc | NA0494
EX2012120824 | Petroleum Perforators, Inc | UN0494
EX2012120828 | Petroleum Perforators, Inc | NA0494
EX2012120830 | Petroleum Perforators, Inc | UN0494
EX2012120831 | Petroleum Perforators, Inc | NA0494
EX2012120832 | Petroleum Perforators, Inc | NA0494
EX2012120833 | Petroleum Perforators, Inc | UN0494
EX2012120834 | Petroleum Perforators, Inc | UN0494
EX2013070110 | Petroleum Perforators, Inc | NA0494
EX2013070129 | Petroleum Perforators, Inc | UN0494
EX2013070130 | Petroleum Perforators, Inc | NA0494
EX2013070131 | Petroleum Perforators, Inc | UN0494
EX2013070132 | Petroleum Perforators, Inc | NA0494
EX2013070135 | Petroleum Perforators, Inc | UN0494
EX2013070140 | Petroleum Perforators, Inc | NA0494
EX2009120009 | Precision Wireline Services, LLC | UN0494
EX2009120014 | Precision Wireline Services, LLC | UN0494
EX2013031301 | Precision Wireline Services, LLC | UN0494
EX2013031303 | Precision Wireline Services, LLC | UN0494
EX2013031284 | Precision Wireline Services, LLC | UN0494
EX2013031305 | Precision Wireline Services, LLC | UN0494
EX2013031306 | Precision Wireline Services, LLC | UN0494
EX2013031307 | Precision Wireline Services, LLC | UN0494
EX2013110530 | Priority Energy Services, LLC | UN0494
EX2013110531 | Priority Energy Services, LLC | UN0494
EX2015070491 | Pro Oilfield Services, LLC | UN0494
EX2015070492 | Pro Oilfield Services, LLC | UN0494
EX2015070494 | Pro Oilfield Services, LLC | UN0494
EX2015070496 | Pro Oilfield Services, LLC | UN0494
EX2015070497 | Pro Oilfield Services, LLC | UN0494
EX2009020386 | PSI Wireline, Inc | UN0494
EX2009020387 | PSI Wireline, Inc | NA0494
EX2009020388 | PSI Wireline, Inc | UN0494
EX2009020389 | PSI Wireline, Inc | NA0494
EX2009020390 | PSI Wireline, Inc | UN0494
EX2009020391 | PSI Wireline, Inc | NA0494
EX2009020393 | PSI Wireline, Inc | UN0494
EX2009020394 | PSI Wireline, Inc | UN0494
EX2009020395 | PSI Wireline, Inc | UN0494
EX2009050383 | PSI Wireline, Inc | UN0494
EX2009050384 | PSI Wireline, Inc | UN0494
EX2009050385 | PSI Wireline, Inc | UN0494
EX2009020326 | Pure Energy Services (USA) | UN0494
EX2009020327 | Pure Energy Services (USA) | UN0124
EX2009035001 | Pure Energy Services (USA) | NA0124
EX2009035002 | Pure Energy Services (USA) | NA0494
EX2009035003 | Pure Energy Services (USA) | UN0124
EX2009035004 | Pure Energy Services (USA) | UN0494
EX2009035005 | Pure Energy Services (USA) | NA0124
EX2009035006 | Pure Energy Services (USA) | NA0494
EX2009035007 | Pure Energy Services (USA) | UN0124
EX2009035308 | Pure Energy Services (USA) | UN0494
EX2017010535 | QES Wireline, LLC | UN0124
EX2012110221 | Quality Energy Services | UN0494
EX2017062013 | Reach Wireline, LLC | NA0124
EX2012120524 | Recon Petrotechnologies Oklahoma Inc | UN0494
EX2015120059 | Reliable Wireline, LLC | UN0124
EX2015120062 | Reliable Wireline, LLC | UN0494
EX2015120063 | Reliable Wireline, LLC | NA0124
EX2015120076 | Reliable Wireline, LLC | UN0124
EX2015120077 | Reliable Wireline, LLC | UN0494
EX2015120078 | Reliable Wireline, LLC | NA0124
EX2015120079 | Reliable Wireline, LLC | NA0494
EX2015100247 | Reliance Pressure Cotrol, LLC dba Reliance Oilfield Services | NA0494
EX2015100248 | Reliance Pressure Cotrol, LLC dba Reliance Oilfield Services | UN0494
EX2015100250 | Reliance Pressure Cotrol, LLC dba Reliance Oilfield Services | NA0494
EX2015100230 | Reliance Pressure Cotrol, LLC, dba Reliance Oilfield Services | UN0494
EX2015100235 | Reliance Pressure Cotrol, LLC, dba Reliance Oilfield Services | NA0494
EX2015100237 | Reliance Pressure Cotrol, LLC, dba Reliance Oilfield Services | UN0494
EX2013060448 | RockPile Energy Services | UN0124
EX2013060616 | RockPile Energy Services | UN0124
EX2013060619 | RockPile Energy Services | UN0124
EX2013060620 | RockPile Energy Services | UN0124
EX2013121301 | RockPile Energy Services, LLC | UN0494
EX2009090389 | Rocky Mountain Wireline Service, Inc | UN0124
EX2009090391 | Rocky Mountain Wireline Service, Inc | NA0124
EX2009110296 | Rocky Mountain Wireline Service, Inc | NA0124
EX2009110297 | Rocky Mountain Wireline Service, Inc | NA0494
EX2009110298 | Rocky Mountain Wireline Service, Inc | UN0124
EX2009110299 | Rocky Mountain Wireline Service, Inc | UN0494
EX2009110301 | Rocky Mountain Wireline Service, Inc | NA0494
EX2009110302 | Rocky Mountain Wireline Service, Inc | UN0124
EX2009110303 | Rocky Mountain Wireline Service, Inc | UN0494
EX2009110304 | Rocky Mountain Wireline Service, Inc | NA0124
EX2009110305 | Rocky Mountain Wireline Service, Inc | NA0494
EX2009110306 | Rocky Mountain Wireline Service, Inc | UN0494
EX2009110307 | Rocky Mountain Wireline Service, Inc | UN0124
EX2009110308 | Rocky Mountain Wireline Service, Inc | NA0494
EX2009110309 | Rocky Mountain Wireline Service, Inc | NA0124
EX2009110310 | Rocky Mountain Wireline Service, Inc | UN0124
EX2009110311 | Rocky Mountain Wireline Service, Inc | UN0494
EX2009110312 | Rocky Mountain Wireline Service, Inc | NA0124
EX2009110313 | Rocky Mountain Wireline Service, Inc | NA0494
EX2009110314 | Rocky Mountain Wireline Service, Inc | UN0124
EX2009110315 | Rocky Mountain Wireline Service, Inc | UN0494
EX2009110316 | Rocky Mountain Wireline Service, Inc | NA0124
EX2009110317 | Rocky Mountain Wireline Service, Inc | UN0124
EX2009110318 | Rocky Mountain Wireline Service, Inc | UN0494
EX2015070685 | Rocky Mountain Wireline Service, Inc | UN0494
EX2015070694 | Rocky Mountain Wireline Service, Inc | UN0124
EX2016080197 | Rush Wellsite Services LLC | UN0494
EX2016080198 | Rush Wellsite Services LLC | UN0494
EX2016080199 | Rush Wellsite Services LLC | NA0494
EX2016080200 | Rush Wellsite Services LLC | UN0494
EX2016080201 | Rush Wellsite Services LLC | NA0494
EX2009080294 | Schlumberger Technology Corporation | UN0124
EX2009080291 | Schlumberger Technology Corporation | NA0494
EX2009080295 | Schlumberger Technology Corporation | NA0124
EX2009080296 | Schlumberger Technology Corporation | NA0494
EX2009080297 | Schlumberger Technology Corporation | UN0494
EX2009080298 | Schlumberger Technology Corporation | UN0124
EX2009080300 | Schlumberger Technology Corporation | NA0124
EX2009080301 | Schlumberger Technology Corporation | UN0124
EX2009080302 | Schlumberger Technology Corporation | UN0494
EX2009080303 | Schlumberger Technology Corporation | NA0124
EX2009080305 | Schlumberger Technology Corporation | NA0494
EX2009080306 | Schlumberger Technology Corporation | UN0124
EX2009080307 | Schlumberger Technology Corporation | NA0124
EX2009080308 | Schlumberger Technology Corporation | NA0494
EX2009080309 | Schlumberger Technology Corporation | UN0494
EX2009080310 | Schlumberger Technology Corporation | NA0124
EX2009080311 | Schlumberger Technology Corporation | UN0124
EX2009080312 | Schlumberger Technology Corporation | UN0494
EX2009080313 | Schlumberger Technology Corporation | NA0494
EX2009080314 | Schlumberger Technology Corporation | UN0124
EX2009080315 | Schlumberger Technology Corporation | UN0494
EX2009080316 | Schlumberger Technology Corporation | NA0124
EX2009080317 | Schlumberger Technology Corporation | NA0494
EX2009080318 | Schlumberger Technology Corporation | UN0124
EX2009080319 | Schlumberger Technology Corporation | UN0494
EX2012100250 | Schlumberger Technology Corporation | UN0494
EX2012100251 | Schlumberger Technology Corporation | UN0124
EX2012100366 | Schlumberger Technology Corporation | UN0494
EX2012100367 | Schlumberger Technology Corporation | UN0124
EX2013080458 | Schlumberger Technology Corporation | NA0124
EX2013100334 | Schlumberger Technology Corporation | UN0494
EX2013100335 | Schlumberger Technology Corporation | UN0124
EX1994010168 | Schlumberger Well Services | UN0124
EX1994010169 | Schlumberger Well Services | NA0124
EX1996060153 | Shaped Charge Specialist, Inc | UN0124
EX1996060154 | Shaped Charge Specialist, Inc | UN0494
EX2010120187 | Sharpshooters, Inc | UN0494
EX2010120638 | Sharpshooters, Inc | UN0494
EX2010120639 | Sharpshooters, Inc | UN0494
EX2010120640 | Sharpshooters, Inc | UN0124
EX2010120641 | Sharpshooters, Inc | UN0124
EX2010010401 | Smith International, Inc | UN0494
EX2015020509 | Southern Well Survey | UN0124
EX2011020588 | Star-Jet Services, Inc | UN0494
EX2011020590 | Star-Jet Services, Inc | UN0494
EX2011020591 | Star-Jet Services, Inc | UN0494
EX2011020592 | Star-Jet Services, Inc | UN0494
EX2011021392 | Star-Jet Services, Inc | UN0494
EX2014100604 | Strategic Wireline Services LLC | UN0494
EX2014100605 | Strategic Wireline Services LLC | UN0494
EX2014100606 | Strategic Wireline Services LLC | UN0494
EX2014100607 | Strategic Wireline Services LLC | UN0494
EX2009050039 | Superior Well Services, Inc | UN0124
EX2009050048 | Superior Well Services, Inc | NA0494
EX2014060299 | Terragon Energy Services, LLC | UN0494
EX2014060310 | Terragon Energy Services, LLC | UN0494
EX2014060298 | Terragon Energy Services, LLC | UN0494
EX2010120189 | Tetra Applied Technologies, LLC | UN0494
EX2010120643 | Tetra Applied Technologies, LLC | UN0124
EX2010120644 | Tetra Applied Technologies, LLC | UN0494
EX2010120645 | Tetra Applied Technologies, LLC | UN0124
EX2010120646 | Tetra Applied Technologies, LLC | UN0124
EX2010120647 | Tetra Applied Technologies, LLC | UN0494
EX2010120648 | Tetra Applied Technologies, LLC | UN0124
EX2010120649 | Tetra Applied Technologies, LLC | UN0494
EX2010120650 | Tetra Applied Technologies, LLC | UN0124
EX2010120651 | Tetra Applied Technologies, LLC | UN0494
EX2010120652 | Tetra Applied Technologies, LLC | UN0124
EX2010120658 | Tetra Applied Technologies, LLC | UN0494
EX2010120659 | Tetra Applied Technologies, LLC | UN0124
EX2010120660 | Tetra Applied Technologies, LLC | UN0494
EX2010120661 | Tetra Applied Technologies, LLC | NA0124
EX2010120662 | Tetra Applied Technologies, LLC | NA0494
EX2010120706 | Tetra Applied Technologies, LLC | NA0124
EX2010120707 | Tetra Applied Technologies, LLC | NA0494
EX2010120708 | Tetra Applied Technologies, LLC | NA0124
EX2010120709 | Tetra Applied Technologies, LLC | NA0494
EX2011110218 | Titan Wireline Services | UN0124
EX2011110219 | Titan Wireline Services | NA0494
EX2011110220 | Titan Wireline Services | UN0494
EX2011110221 | Titan Wireline Services | UN0494
EX2011110222 | Titan Wireline Services | UN0494
EX1996110206 | Titan Wireline Services c/o Owen Compliance Service | NA0124
EX1996110207 | Titan Wireline Services c/o Owen Compliance Service | NA0494
EX2012080810 | Tucker Energy Services Inc | UN0494
EX2013090762 | Tucker Energy Services Inc | NA0494
EX2009060090 | United Surveys Inc | UN0494
EX2009060091 | United Surveys Inc | UN0494
EX2009060092 | United Surveys Inc | NA0494
EX2009060095 | UNITED SURVEYS, INC | UN0494
EX2009060098 | UNITED SURVEYS, INC | UN0494
EX2012051013 | Warrior Energy Services | UN0494
EX2012051014 | Warrior Energy Services | UN0494
EX2012051015 | Warrior Energy Services | NA0494
EX2012051016 | Warrior Energy Services | UN0494
EX2012051018 | Warrior Energy Services | UN0494
EX2012061117 | Warrior Energy Services Corporation | NA0494
EX2012061119 | Warrior Energy Services Corporation | UN0494
EX2012061120 | Warrior Energy Services Corporation | NA0494
EX2012061121 | Warrior Energy Services Corporation | UN0494
EX2012061123 | Warrior Energy Services Corporation | UN0494
EX2012061124 | Warrior Energy Services Corporation | NA0494
EX2012061122 | Warrior Energy Services Corporation | NA0494
EX2010090677 | Weaver Services Inc, dba WSI Cased Hole Specialist | NA0124
EX2010090678 | Weaver Services Inc, dba WSI Cased Hole Specialist | NA0124
EX2010090679 | Weaver Services Inc, dba WSI Cased Hole Specialist | NA0124
EX2010090680 | Weaver Services Inc, dba WSI Cased Hole Specialist | NA0124
EX2010090681 | Weaver Services Inc, dba WSI Cased Hole Specialist | UN0494
EX2010090682 | Weaver Services Inc, dba WSI Cased Hole Specialist | UN0494
EX2010090683 | Weaver Services Inc, dba WSI Cased Hole Specialist | UN0494
EX2010090684 | Weaver Services Inc, dba WSI Cased Hole Specialist | UN0494
EX2010090685 | Weaver Services Inc, dba WSI Cased Hole Specialist | UN0494
EX2010090686 | Weaver Services Inc, dba WSI Cased Hole Specialist | UN0494
EX2010090687 | Weaver Services Inc, dba WSI Cased Hole Specialist | NA0124
EX2010090688 | Weaver Services Inc, dba WSI Cased Hole Specialist | NA0124
EX2010090689 | Weaver Services Inc, dba WSI Cased Hole Specialist | UN0494
EX2010090690 | Weaver Services Inc, dba WSI Cased Hole Specialist | NA0494
EX2010090691 | Weaver Services Inc, dba WSI Cased Hole Specialist | NA0494
EX2010090692 | Weaver Services Inc, dba WSI Cased Hole Specialist | NA0494
EX2010090693 | Weaver Services Inc, dba WSI Cased Hole Specialist | NA0494
EX2010090694 | Weaver Services Inc, dba WSI Cased Hole Specialist | NA0494
EX2010090733 | Weaver Services Inc, dba WSI Cased Hole Specialist | NA0494
EX2011020555 | Well Service of Alabama LLC | UN0494
EX2011020861 | Well Service of Alabama LLC | UN0494
EX2011020862 | Well Service of Alabama LLC | UN0494
EX2021042088 | Wellmatics | NA0124
EX2009050094 | Wireline Specialties, Inc | UN0494
EX2009050095 | Wireline Specialties, Inc | UN0124
EX2009050096 | Wireline Specialties, Inc | NA0494
EX2009050097 | Wireline Specialties, Inc | NA0124
EX2009050098 | Wireline Specialties, Inc | UN0124
EX2009050099 | Wireline Specialties, Inc | UN0124
EX2009050100 | Wireline Specialties, Inc | NA0494
EX2009050101 | Wireline Specialties, Inc | NA0124
EX2009050102 | Wireline Specialties, Inc | UN0124
EX2009050103 | Wireline Specialties, Inc | UN0124
EX2009050104 | Wireline Specialties, Inc | NA0494
EX2009050105 | Wireline Specialties, Inc | NA0124
EX2009050106 | Wireline Specialties, Inc | UN0494
EX2009050107 | Wireline Specialties, Inc | UN0124
EX2009050108 | Wireline Specialties, Inc | NA0494
EX2009050109 | Wireline Specialties, Inc | NA0124
EX2009050110 | Wireline Specialties, Inc | UN0494
EX2009050111 | Wireline Specialties, Inc | UN0124
EX2009050112 | Wireline Specialties, Inc | NA0494
EX2009050113 | Wireline Specialties, Inc | NA0124
EX2009050114 | Wireline Specialties, Inc | UN0494
EX2009050115 | Wireline Specialties, Inc | UN0124
EX2009050116 | Wireline Specialties, Inc | NA0494
EX2009050117 | Wireline Specialties, Inc | NA0124
EX2009050118 | Wireline Specialties, Inc | UN0494
EX2009050119 | Wireline Specialties, Inc | UN0124
EX2010091016 | Wrangler Wireline, Inc | UN0494
EX2011120468 | Wren Oilfield Services, Inc | UN0494
EX2011120502 | Wren Oilfield Services, Inc | UN0494
EX2011120504 | Wren Oilfield Services, Inc | UN0494
EX2011120506 | Wren Oilfield Services, Inc | UN0494
EX2012050234 | Wren Oilfield Services, Inc | UN0494

Issued in Washington, DC, on August 9, 2022.
William S. Schoonover,
Associate Administrator for Hazardous Materials Safety, Pipeline and Hazardous Materials Safety Administration.

[FR Doc. 2022-17344 Filed 8-11-22; 8:45 am]

BILLING CODE 4910-60-P